DEPARTMENT OF ENERGY

Federal Energy Regulatory Commission

Combined Notice of Filings

Take notice that the Commission has received the following Natural Gas Pipeline Rate and Refund Report filings:

Filings Instituting Proceedings

Docket Numbers: PR25-28-000.

Applicants: Columbia Gas of Virginia Inc.

Description: 284.123 Rate Filing: Revisions to SOC per VA SCC 11-2024 Order to be effective 12/31/2024.

Filed Date: 1/28/25.

Accession Number: 20250128-5045.

Comment Date: 5 p.m. ET 2/18/25.

Docket Numbers: RP25-381-000.

Applicants: DBM Pipeline, LLC.

Description: Compliance filing: NAESB Compliance Filing 2025 to be effective 8/1/2025.

Filed Date: 1/28/25.

Accession Number: 20250128-5132.

Comment Date: 5 p.m. ET 2/10/25.

Docket Numbers: RP25-382-000.

Applicants: Iroquois Gas Transmission System, L.P.

Description: 4(d) Rate Filing: 1.29.25 Negotiated Rates—Macquarie Energy LLC R-4090-33 to be effective 2/1/2025.

Filed Date: 1/29/25.

Accession Number: 20250129-5068.

Comment Date: 5 p.m. ET 2/10/25.

Docket Numbers: RP25-383-000.

Applicants: Iroquois Gas Transmission System, L.P.

Description: 4(d) Rate Filing: 1.29.25 Negotiated Rates—Mercuria Energy America, LLC R-7540-02 to be effective 2/1/2025.

Filed Date: 1/29/25.

Accession Number: 20250129-5070.

Comment Date: 5 p.m. ET 2/10/25.

Docket Numbers: RP25-384-000.

Applicants: MountainWest Pipeline, LLC.

Description: Compliance filing: Order No. 587-AA Compliance Filing to be effective 8/1/2025.

Filed Date: 1/29/25.

Accession Number: 20250129-5072.

Comment Date: 5 p.m. ET 2/10/25.

Docket Numbers: RP25-385-000.

Applicants: MountainWest Overthrust Pipeline, LLC.

Description: Compliance filing: Order No. 587-AA Compliance Filing to be effective 8/1/2025.

Filed Date: 1/29/25.

Accession Number: 20250129-5073.

Comment Date: 5 p.m. ET 2/10/25.

Docket Numbers: RP25-386-000.

Applicants: White River Hub, LLC.

Description: Compliance filing: Order No. 587-AA Compliance Filing to be effective 8/1/2025.

Filed Date: 1/29/25.

Accession Number: 20250129-5075.

Comment Date: 5 p.m. ET 2/10/25.

Docket Numbers: RP25-387-000.

Applicants: Sierrita Gas Pipeline LLC.

Description: 4(d) Rate Filing: 2025 Jan Quarterly FL&U FIling to be effective 3/1/2025.

Filed Date: 1/29/25.

Accession Number: 20250129-5097.

Comment Date: 5 p.m. ET 2/10/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: PR25-15-003.

Applicants: Pelico Pipeline, LLC.

Description: Amendment Filing: Amendment to 12182025 to be effective 11/1/2024.

Filed Date: 1/28/25.

Accession Number: 20250128-5114.

Comment Date: 5 p.m. ET 2/18/25.

284.123(g) Protest: 5 p.m. ET 2/18/25.

Docket Numbers: PR25-15-002.

Applicants: Pelico Pipeline, LLC.

Description: Amendment Filing: Amendment to 12182024 to be effective 11/1/2024.

Filed Date: 1/27/25.

Accession Number: 20250127-5186.

Comment Date: 5 p.m. ET 2/18/25.

284.123(g) Protest: 5 p.m. ET 2/18/25.

Docket Numbers: RP11-1711-000.

Applicants: Texas Gas Transmission, LLC.

Description: Refund Report: 2024 Cash Out Filing to be effective N/A.

Filed Date: 1/29/25.

Accession Number: 20250129-5076.

Comment Date: 5 p.m. ET 2/10/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 29, 2025.
Carlos D. Clay,
Deputy Secretary.

[FR Doc. 2025-02193 Filed 2-3-25; 8:45 am]

BILLING CODE 6717-01-P